DEPARTMENT OF COMMERCE

Foreign-Trade Zones Board

[S-52-2024]

Foreign-Trade Zone 224; Application for Subzone; Jubilant HollisterStier, LLC; Spokane, Washington

An application has been submitted to the Foreign-Trade Zones (FTZ) Board by the Spokane Airport Board, grantee of FTZ 224, requesting subzone status for the facility of Jubilant HollisterStier, LLC, located in Spokane, Washington. The application was submitted pursuant to the provisions of the Foreign-Trade Zones Act, as amended (19 U.S.C. 81a-81u), and the regulations of the FTZ Board (15 CFR part 400). It was formally docketed on March 19, 2024.

The proposed subzone (20.20 acres) is located at 3525 North Regal Street, Spokane, Washington. A notification of proposed production activity has been submitted and will be published separately for public comment. The proposed subzone would be subject to the existing activation limit of FTZ 224.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is May 6, 2024. Rebuttal comments in response to material submitted during the foregoing period may be submitted during the subsequent 15-day period to May 20, 2024.

A copy of the application will be available for public inspection in the “Online FTZ Information Section” section of the FTZ Board's website, which is accessible via www.trade.gov/ftz.

For further information, contact Qahira El-Amin at Qahira.El-Amin@trade.gov.

Dated: March 20, 2024.
Elizabeth Whiteman,
Executive Secretary.

[FR Doc. 2024-06241 Filed 3-22-24; 8:45 am]

BILLING CODE 3510-DS-P